DEPARTMENT OF COMMERCE

Patent and Trademark Office

Privacy Act of 1974; System of Records

AGENCY: United States Patent and Trademark Office, Commerce.

ACTION: Notice of proposed new Privacy Act system of records.

SUMMARY: In accordance with the requirements of the Privacy Act of 1974, as amended, the United States Patent and Trademark Office (USPTO) gives notice of a proposed new system of records entitled “COMMERCE/PAT-TM-21 National Medal of Technology and Innovation Nominations.” We invite the public to comment on the system announced in this publication.

DATES: Written comments must be received no later than February 27, 2008. The proposed system of records will be effective on February 27, 2008, unless the USPTO receives comments that would result in a contrary determination.

ADDRESSES: You may submit written comments by any of the following methods:

E-mail: Susan.Fawcett@uspto.gov.

Fax: (571) 273-0112, marked to the attention of Susan Fawcett.

Mail: Susan K. Fawcett, Records Officer, Office of the Chief Information Officer, Customer Information Services Group, Public Information Services Division, United States Patent and Trademark Office, P.O. Box 1450, Alexandria, VA 22313-1450.

All comments received will be available for public inspection at the Public Search Facilities, Madison East—1st Floor, 600 Dulany Street, Alexandria, VA 22314.

FOR FURTHER INFORMATION CONTACT: Susan K. Fawcett, Records Officer, Office of the Chief Information Officer, Customer Information Services Group, Public Information Services Division, United States Patent and Trademark Office, P.O. Box 1450, Alexandria, VA 22313-1450, (571) 272-5429.

SUPPLEMENTARY INFORMATION: The National Medal of Technology is the highest honor awarded by the President of the United States to America's leading innovators. Established by an act of Congress in 1980, the Medal of Technology was first awarded in 1985. The Medal is given annually to individuals, teams, and/or companies/divisions for their outstanding contributions to the Nation's economic, environmental and social well-being through the development and commercialization of technology products, processes and concepts; technological innovation; and development of the Nation's technological workforce. The purpose of the National Medal of Technology is to recognize those who have made lasting contributions to America's competitiveness, standard of living, and quality of life through technological innovation, and to recognize those who have made substantial contributions to strengthening the Nation's technological workforce. By highlighting the national importance of technological innovation, the Medal also seeks to inspire future generations of Americans to prepare for and pursue technical careers to keep America at the forefront of global technology and economic leadership.

The America Competes Act of 2007 abolished the Technology Administration of the Department of Commerce as of August 9, 2007 (sec. 3002). The administration and nomination processing for the National Medal of Technology has been officially transferred by the Secretary of Commerce to the United States Patent and Trademark Office (USPTO). In addition, the title of the award will be updated to the “National Medal of Technology and Innovation.” The USPTO is therefore giving notice of a new system of records that is subject to the Privacy Act of 1974. The proposed system of records will maintain information on individuals who are nominated for the National Medal of Technology and Innovation.

The proposed new system of records, “COMMERCE/PAT-TM-21 National Medal of Technology and Innovation Nominations,” is published in its entirety below.

COMMERCE/PAT-TM-21

System name:

National Medal of Technology and Innovation Nominations.

Security classification:

Unclassified.

System location:

Office of the Under Secretary and Director, United States Patent and Trademark Office, 600 Dulany Street, Alexandria, VA 22314.

Categories of individuals covered by the system:

Nominees for the National Medal of Technology and Innovation.

Categories of records in the system:

Nomination Form, including name, postal address, telephone number, e-mail address, citizenship, employment history, and other information pertaining to the applicant's activities. Statements containing various kind of information with respect to the contributions of the individual(s) and/or group(s).

Authority for maintenance of the system:

15 U.S.C. 3711.

Purpose(s):

The information in this system of records is used by the Nomination Evaluation Committee to determine the eligibility and merit of nominees during the annual selection of the recipients of the National Medal of Technology and Innovation.

Routine uses of records maintained in the system, including categories of users and the purposes of such uses:

See Prefatory Statement of General Routine Uses Nos. 1-5, 9-10, and 12-13, as found at 46 FR 63501-63502 (December 31, 1981). The USPTO may use the information contained in this system of records in support of the work of the nomination committee. The USPTO, the Department of Commerce, the National Medal of Technology Nomination Evaluation Committee, and White House staff may use the information contained in this system of records in support of the nomination and award process. The Committee will discuss the achievements and biographical information submitted (contact information will not be disclosed) at meetings that are open to the public in accordance with the Federal Advisory Committee Act.

Disclosure to consumer reporting agencies:

Not applicable.

Policies and practices for storing, retrieving, accessing, retaining, and disposing of records in the system:

Storage:

Paper records in file folders and electronic media.

Retrievability:

By individual's name.

Safeguards:

Maintained in areas accessible only to authorized personnel in a building protected by security guards during nonbusiness hours. Systems are password protected.

Retention and disposal:

Records retention and disposal is in accordance with the series record schedules.

System manager(s) and address:

Under Secretary and Director, United States Patent and Trademark Office, 600 Dulany Street, Alexandria, VA 22314.

Notification procedure:

Information may be obtained from the Manager, National Medal of Technology and Innovation, Office of the Under Secretary and Director, United States Patent and Trademark Office, P.O. Box 1450, Alexandria, VA 22313-1450. Requesters should provide their names in accordance with the inquiry provisions appearing in 37 CFR part 102 subpart B.

Record access procedures:

Requests from individuals should be addressed to the same address as stated in the notification section above.

Contesting record procedures:

The rules for access, contesting contents, and appealing initial determinations by the individual concerned appear in 37 CFR part 102 subpart B. Requests from individuals should be addressed to the same address as stated in the notification section above.

Record source categories:

Subject individuals and those authorized by the individual to furnish information, as well as nominating entities and self-nominees.

Exemptions claimed for the system:

None.

Dated: January 22, 2008.
Susan K. Fawcett,
Records Officer, USPTO, Office of the Chief Information Officer, Customer Information Services Group, Public Information Services Division.

[FR Doc. E8-1386 Filed 1-25-08; 8:45 am]

BILLING CODE 3510-16-P